DEPARTMENT OF LABOR

Employment and Training Administration

[TA-W-82,688]

Rough & Ready Lumber, LLC; Including On-Site Leased Workers From Perpetua Forests Company Cave Junction, Oregon; Amended Certification Regarding Eligibility To Apply for Worker Adjustment Assistance

In accordance with Section 223 of the Trade Act of 1974, as amended (“Act”), 19 U.S.C. 2273, the Department of Labor issued a Certification of Eligibility to Apply for Worker Adjustment Assistance on May 31, 2013, applicable to workers and former workers of Rough & Ready Lumber, LLC, Cave Junction, Oregon (subject firm). The Department's Notice of determination was published in the Federal Register on June 21, 2013 (78 FR 37588). Workers were engaged in employment related to the production and sale of lumber.

At the request of a company official, the Department reviewed the certification for workers of the subject firm.

New information provided by the subject firm revealed that workers from Perpetua Forests Company were employed on-site at the Cave Junction, Oregon location of Rough & Ready Lumber, LLC. The Department has determined that workers of Perpetua Forests Company were sufficiently under the control of the subject firm to be considered leased workers.

Based on these findings, the Department is amending this certification to include workers leased from Perpetua Forests Company working on-site at the Cave Junction, Oregon location of Rough & Ready Lumber, LLC.

The amended notice applicable to TA-W-82,688 is hereby issued as follows:

All workers of Rough & Ready Lumber, LLC, including on-site leased workers of Perpetua Forests Company, Cave Junction, Oregon, who became totally or partially separated from employment on or after April 23, 2012, through May 31, 2015, and all workers in the group threatened with total or partial separation from employment on May 31, 2103 through May 31, 2015, are eligible to apply for adjustment assistance under Chapter 2 of Title II of the Trade Act of 1974, as amended.

Signed in Washington, DC this 17th day of July, 2013.
Del Min Amy Chen,
Certifying Officer, Office of Trade Adjustment Assistance.

[FR Doc. 2013-18929 Filed 8-5-13; 8:45 am]

BILLING CODE 4510-FN-P